DEPARTMENT OF ENERGY

Federal Energy Regulatory Commission

[Docket No. CP00-55-000]

Distrigas of Massachusetts Corporation; Notice of Intent To Prepare an Environmental Assessment for the Proposed Distrigas LNG Plant Modifications Project and Request for Comments on Environmental Issues

January 12, 2000.

The staff of the Federal Energy Regulatory Commission (FERC or Commission) will prepare an environmental assessment (EA) that will discuss the environmental impacts of the construction and operation of the facilities proposed at Distrigas of Massachusetts Corporation's (DOMAC) liquefied natural gas terminal (LNG Plant) in Everett, Massachusetts.¹ This EA will be used by the Commission in its decision-making process to determine whether the project is in the public convenience and necessity.

¹ DOMAC's application in Docket No. CP00-55-000 was filed with the Commission under Section 7 of the Natural Gas Act and Part 157 of the Commission's regulations.

Summary of the Proposed Project

The proposed project would allow DOMAC to establish a mutually beneficial thermal energy exchange arrangement between its LNG Plant and the Island End Cogeneration Project (Power Project), a nonjurisdictional electric generating Facilities Siting Board (Siting Board) on October 8, 1998. DOMAC proposes to supply 66,000 MMBtu per day of regasified liquefied natural gas (LNG) to the Power Plant Project and to modify its existing vaporization facilities to use low-grade waste heat from the Power Project. Specifically, DOMAC requests Commission authorization to:

• Install a closed-loop hot and cold water thermal energy transfer system consisting of piping, a warm water storage tank, water-to-water heat exchangers, and five water pumps;

• Replace existing low, medium, and high pressure vaporizers with equivalent capacity shell-and-tube hot water heat exchangers compatible with the thermal energy transfer system;

• Perform minor LNG Plant modifications necessary to meter and connect the Power Project's fuel supply line to the LNG Plant; and

• Install a new utility water supply system to serve both the LNG Plant and the Power Project.

The general location of DOMAC's proposed project facilities is shown on the map attached as appendix 1.² Construction of the proposed facilities would occur completely on land owned by DOMAC or on the adjacent Power Project site.

² The appendices referenced in this notice are not being printed in the Federal Register. Copies are available on the Commission's website at the “RIMS” link or from the Commission's Public Reference and Files Maintenance Branch, 888 First Street, NE., Washington, DC 20426, or call (202) 208-1371. For instructions on connecting to RIMS refer to the last page of this notice. Copies of the appendices were sent to all those receiving this notice in the mail.

The EA Process

The National Environmental Policy Act (NEPA) requires the Commission to take into account the environmental impacts that could result from an action whenever it considers the issuance of a Certificate of Public Convenience and Necessity. NEPA also requires us to discover and address concerns the public may have about proposals. We call this “scoping”. The main goal of the scoping process is to focus the analysis in the EA on the important environmental issues. By this Notice of Intent, the Commission requests public comments on the scope of the issues it will address in the EA. All comments received are considered during the preparation of the EA. State and local governments representatives are encouraged to notify their constituents of this proposed action and encourage them to comment on their areas of concern.

The EA will discuss impacts that could occur as a result of the construction and operation of the proposed project under these general headings:

• Geology and soils

• Vegetation and wildlife

• Water resources, fisheries, and wetlands

• Endangered and threatened species

• Public safety

• Cultural resources

• Land use

• Air quality and noise

We will also evaluate possible alternatives to the proposed project and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section beginning on page 4.

Currently Identified Environmental Issues

We have already identified several issues that we think deserve attention based on a preliminary review of the proposed facilities and the environmental information provided by DOMAC. This preliminary list of issues may be changed based on your comments and our analysis.

• Noise quality may be affected by the addition of the new warm water circulating pumps.

• Soils (possibly contaminated) may be affected by minor ground disturbance from foundation construction. The proposed project area is part of a site that has been identified as a “noticed site” pursuant to the Massachusetts Contingency Plan. The former site owner, Boston Gas Company, is currently conducting environmental investigations to determine the need for soil remediation.

The Siting Board has reviewed environmental impacts associated with the Power Project and has approved construction of this facility. Therefore, the EA will not address impacts from this nonjurisdictional facility. We will briefly describe their location and status in the EA.

Public Participation

You can make a difference by providing us with your specific comments or concerns about the project. By becoming a commentor, your concerns will be addressed in the EA and considered by the Commission. You should focus on the potential environmental effects of the proposal, alternatives to the proposal, and measures to avoid or lessen environmental impact. The more specific your comments, the more useful they will be. Please carefully follow these instructions to ensure that your comments are received in time and properly recorded:

• Send two copies of your letter to: David P. Boergers, Secretary, Federal Energy Regulatory Commission, 888 First St., NE, Room 1A, Washington, DC 20426.

• Label one copy of the comments for the attention of the Environmental Review and Compliance Branch, PR-11.1.

• Reference Docket No. CP00-55-000.

• Mail your comments so that they will be received in Washington, DC on or before February 11, 2000.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

The date for filing timely motions to intervene in this proceeding has passed. Therefore, parties now seeking to file late interventions must show good cause, as required by section 385.214(b)(3), why this time limitation should be waived. Environmental issues have been viewed as good cause for late intervention.

You do not need intervenor status to have your environmental comments considered. Additional information about the proposed project is available from Mr. Paul McKee of the Commission's Office of External Affairs at (202) 208-1088 or on the FERC website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

Linwood A. Watson, Jr.,
Acting Secretary.

[FR Doc. 00-1178 Filed 1-18-00; 8:45 am]

BILLING CODE 6717-01-M